UTAH RECLAMATION MITIGATION AND CONSERVATION COMMISSION

Notice of Availability of the Final Environmental Assessment and Finding of No Significant Impact for Rotenone Treatments in the Willow Creek Drainage in Grand and Uintah Counties, UT

AGENCY: Utah Reclamation Mitigation and Conservation Commission.

ACTION: Notice of availability.

SUMMARY: The Utah Reclamation Mitigation and Conservation Commission (Mitigation Commission) and the Utah Division of Wildlife Resources (Division) jointly prepared an Environmental Assessment (EA) to determine the effects of rotenone treatments in the Willow Creek drainage to remove nonnative trout species and reestablish Colorado River cutthroat trout populations. Removal of non-native trout species is required in order to re-introduce cutthroat trout to their native habitats and to meet conservation objectives for cutthroat trout.

The proposed action selected in the final EA will be implemented by the Commission in cooperation with the Division. The action consists of removing Brook trout, non-native cutthroat trout, and cutthroat/rainbow hybrid trout from the Willow Creek drainage by treatment with rotenone. Existing native fish (speckled dace and mountain sucker) will be collected prior to the treatment by electro-fishing, and restocked to the stream after treatment to facilitate their population maintenance. Colorado River cutthroat trout will be stocked when the drainage is deemed clear of non-native fishes. It is expected that two or three rotenone treatments (over consecutive years) may be needed to effectively remove unwanted trout species.

A Finding of No Significant Impact (FONSI) was made through the EA, thus the proposed action does not require preparation of an Environmental Impact Statement (EIS): It will not have a significant effect on the human environment; negative environmental impacts that could occur are negligible and can be generally eliminated with mitigation; there are no unmitigated adverse impacts on public health or safety, threatened or endangered species, sites or districts listed in or eligible for listing in the National Register of Historic Places, or other unique characteristics of the region; no highly uncertain or controversial impacts, unique or unknown risks, cumulative effects, or elements of precedence were identified that have not been mitigated; and, implementation of the action will not violate any Federal, state, or local environmental protection law.

ADDRESSES: Copies of the Final Environmental Assessment and Finding of No Significant Impact can be obtained at the Utah Reclamation Mitigation and Conservation Commission, 102 W 500 S, Suite 315, Salt Lake City, Utah, 84101. They may also be viewed on the internet via the following Web address: www.mitigationcommission.gov/news.html.

FOR FURTHER INFORMATION CONTACT: Maureen Wilson, Project Coordinator, (801) 524-3146.

Dated: August 1, 2006.
Michael C. Weland,
Executive Director.

[FR Doc. E6-13122 Filed 8-10-06; 8:45 am]

BILLING CODE 4310-05-P